DEPARTMENT OF EDUCATION

[CFDA No. 84.215X]

Teaching American History Grant Program; Notice Inviting Grant Applications for New Awards for Fiscal Year (FY) 2002

Note to Applicants: This notice is a complete application package. Together with the statute authorizing these grants and the Education Department General Administrative Regulations (EDGAR), this notice contains all of the information, application forms, and instructions needed to apply for a Teaching American History grant under this competition. These grants are authorized by Title II, Part C, subpart 4, of the Elementary and Secondary Education Act of 1965, as amended (20 U.S.C. 2351 et seq.).

Purpose of Program: Teaching American History grants support programs to raise student achievement by improving teachers' knowledge, understanding, and appreciation of traditional American history. Grant awards assist local educational agencies (LEAs), in partnership with entities that have extensive content expertise, to develop, document, evaluate, and disseminate innovative, cohesive models of professional development. By helping teachers to develop a deeper understanding and appreciation of traditional American history as a separate subject matter within the core curriculum, these programs will improve instruction and raise student achievement.

Eligible Applicants: Local educational agencies (LEAs), working in partnership with one or more of the following entities:

• Institutions of higher education (IHEs);

• Non-profit history or humanities organizations; and

• Libraries and museums.

Note 1: LEAs must provide evidence of a partnership with the entities described above in order to be eligible for a grant.

Note 2: Groups of LEAs interested in submitting a single application must follow the procedures for group applications in 34 CFR 75.127-129 of EDGAR.

E-Mail Notification of Intent to Apply for Funding: The Department will be able to develop a more efficient process for reviewing grant applications if it has a better understanding of the number of LEAs that intend to apply for funding under this competition. Therefore, the Secretary strongly encourages each potential applicant to notify the Department with a short e-mail noting the intent to submit an application for funding. The e-mail need not include information regarding the content of the proposed application, only the applicant's intent to submit it. The Secretary requests that this e-mail notification be sent no later than May 3, 2002. The e-mail notification should be sent to Ms. Christine Miller at: TeachingAmericanHistory@ed.gov. Applicants that fail to provide this e-mail notification may still apply for funding.

Deadline for Transmittal of Applications: June 3, 2002.

Deadline for Intergovernmental Review: August 1, 2002.

Estimated Available Funds: $100,000,000.

Estimated Range of Awards: $350,000-$1,000,000 (total funding per grant, for a three-year project period).

Estimated Average Size: $500,000 (total for all three years).

Maximum Award Amount: The total amount of funding that an LEA may receive under this competition is $1,000,000.

Estimated Number of Awards: 150-200.

Project Period: Up to 36 months.

Please note that applicants for multi-year awards are required to provide detailed budget information for the total grant period requested. The Department will determine at the time of the initial award the funding levels for each year of the grant award. The Department of Education is not bound by any estimates in this notice.

Note: To provide the applicant the capacity to effectively plan for and carry out the comprehensive long-term activities involved in ongoing, intensive professional development, to establish partnerships to support this work, and to document and demonstrate the effectiveness of its program for future dissemination, the Secretary anticipates awarding the entire three-year grant amount for the project at the time of the initial award.

Page Limits: Applicants are strongly encouraged to limit the application narrative to no more than 20 double-spaced pages.

The following standards are preferred: (1) A “page” is 8.5″ × 11″ (one side only) with one-inch margins (top, bottom, and sides). (2) Use 12-point font for all text in the application narrative.

The page limit does not apply to the cover sheet, the one-page abstract, budget section, appendices, and forms and assurances.

Applicable Regulations: The Education Department General Administrative Regulations (EDGAR) in 34 CFR parts 75, 77, 79, 80, 81, 82, 85, 86, 97, 98 and 99.

Supplementary Information: Budgets must include funds for at least two project staff members to attend a two-day annual meeting of the Teaching American History Grant program in Washington, DC, each year of the project. Applicants must include funds to cover travel and lodging expenses for these training activities during each year of the project.

Background: In fiscal year 2001, Congress appropriated $50 million for the Teaching American History program, of which the Department awarded $49.6 million in support of 60 grants to LEAs and consortia in 33 States. Abstracts of these grants are available at www.ed.gov/offices/OESE/TAH/. The Secretary reserved the remaining $365,000 in FY 2001 for peer review costs. Congress appropriated $100 million for this program for fiscal year 2002.

Program Description: The Teaching American History Grant Program is authorized by Part C, subpart 4, of Title II of the Elementary and Secondary Education Act.

Students who know and appreciate the great ideas, issues, and events of American history are more likely to understand and exercise their civic rights and responsibilities. Their understanding of traditional American history will be enhanced if it is taught as a separate academic subject and not as a component of social studies. Teachers must have strong content knowledge to teach students effectively about the significant issues, episodes, individuals, and turning points in the history of the United States.

The Teaching American History Grant Program will support projects to raise student achievement in traditional American history by improving teachers' knowledge, understanding, and appreciation for American history through intensive, ongoing professional development. Project activities should enable teachers to develop further expertise in American history subject content, teaching strategies, and other essential elements of teaching to higher standards. Projects should be driven by a coherent, long-term plan and should be evaluated on the basis of their impact on teacher effectiveness and student learning. This assessment should guide subsequent professional development efforts.

This program will demonstrate how school districts and institutions with expertise in traditional American history can collaborate over a three-year period to ensure that teachers develop the content knowledge and skills necessary to teach traditional American history effectively as a separate academic subject. In addition to any dissemination conducted directly by grantees, the Department intends to take the products and information resulting from this grant program and share the results with other communities.

Under this program, applicants may propose projects that:

• Develop and implement high-quality in-service or pre-service professional development that provides educators with content knowledge and related teaching skills to prepare all students to achieve to higher standards in American history; and

• Develop and implement strategies for sustained and on-going collaboration that will take place over the course of at least three years among teachers and outside experts to improve content knowledge and instruction in traditional American history.

Applicants should consider projects that include at least one or more of the following:

• Supporting participation of teams of teachers in summer institutes and summer immersion activities designed to improve content knowledge and instruction in traditional American history;

• Supporting school-based collaborative efforts among teachers, including programs that facilitate teacher observation and analyses of fellow history teachers' classroom practice to improve content knowledge and instruction;

• Developing programs to assist new history teachers in the classroom, such as—

(a) Mentoring and coaching by trained mentor teachers over the entire grant period;

(b) Team teaching with experienced history teachers; or

(c) Providing release time for observation and consultation with experienced history teachers;

• Providing collaborative professional development experiences for veteran history teachers;

• Supporting LEA collaboration with history departments at IHEs to improve content understanding and quality of instruction in the LEA;

• Developing programs to improve history knowledge and instruction, and therefore student achievement, in high-poverty areas or for disadvantaged students;

• Establishing and maintaining professional networks, focused specifically on teaching traditional American history, that provide a forum for interaction among teachers and that allow for the exchange of information;

• Providing guidance to teachers on the use of technology to provide access to primary historical documents, enable cooperative learning efforts, and develop effective presentations of historical content; and

• Creating materials documenting the implementation and benefits of the program and products for other educators to use in the course of teaching American history as a separate subject within the core curriculum.

Application Content: To apply for Teaching American History program funds, applicants must fully describe, in their project narrative, projects that:

• Develop and implement high-quality professional development programs, or strengthen existing programs, in order to improve traditional American history education programs in elementary, middle, or high schools;

• Demonstrate strong evidence of collaboration with either an institution of higher education, a non-profit history or humanities association, or a library or museum;

• Document the program's outcomes and benefits; and

• Develop products that may be used to replicate the program in other settings.

Thus, grant applications must describe existing or proposed strategies that could successfully be implemented, expanded, documented, evaluated and disseminated. Taken together, these strategies and methods should comprise a research-based and comprehensive traditional American history education improvement project that:

• Is based on reliable theory, preliminary internal or external research, and evaluation regarding effective practice;

• Has the potential to improve students' achievement in traditional American history;

• Highlights the development of model pre-service or in-service professional development for history teachers;

• Involves multiple partners and effectively combines resources to create quality, sustainable programs;

• Demonstrates the feasibility of further replication and dissemination;

• Is applicable to a broad range of rural and urban schools serving poor and disadvantaged students, including schools that are chronically low-performing; and

• Describes methods by which the applicant will assess the project's outcomes.

Competition Requirements

Invitational Priority: The Secretary is particularly interested in applications that meet the following priority:

Applications from high-poverty rural and urban LEAs for projects designed to improve traditional American history instruction in chronically low-performing schools and improve achievement of disadvantaged students.

Under 34 CFR 75.105(c)(1), we do not give an application that meets the invitational priority a competitive or absolute preference over other applications.

Waiver of Proposed Rulemaking

Under the Administrative Procedure Act (5 U.S.C. 553) the Department generally offers interested parties the opportunity to comment on proposed selection criteria. However, in order to make timely grant awards in fiscal year (FY) 2002, the Assistant Secretary for Elementary and Secondary Education has decided to issue this application notice without first publishing selection criteria for public comment. These selection criteria will apply to the FY 2002 grant competition only. The Assistant Secretary takes this action under section 437(d)(1) of the General Education Provisions Act.

Reporting Requirements and Expected Outcomes

The Secretary requires successful applicants to submit annual performance reports that document the grantee's yearly progress toward meeting expected programmatic outcomes. These outcomes must be based on measurable performance objectives. The Secretary will use these reports to measure the success of the grantee's project, and the reports will contribute to a broader knowledge base about high-quality, effective professional development strategies that can improve the teaching and learning of American history nationwide.

In addition, grantees will be required to submit a final performance report, due no later than 90 days after the end of the project period.

Selection Criteria: The Secretary uses the following selection criteria to evaluate applications for grants under this competition. In all instances where the word “project” appears in the selection criteria, the reference to a Teaching American History program should be made. The maximum composite score for all of these criteria is 100 points. The maximum score for each criterion is indicated in parentheses. Within each criterion, the Secretary evaluates each factor equally.

(a) Significance. (30 points)

In determining the significance of the proposed project, the Secretary considers the following factors:

(i) The likelihood that the proposed project will improve the quality of instruction in American history and student knowledge of the subject.

(ii) The importance or magnitude of the results or outcomes likely to be attained by the proposed project, especially improvements in teaching and student achievement.

(iii) The likelihood that the proposed project will promote the teaching of traditional American history as a separate academic subject (not as a component of social studies) within the LEA's elementary school and secondary school curricula.

(b) Quality of the project design. (25 points)

In determining the quality of the design of the proposed project, the Secretary considers the following factors:

(i) The extent to which the goals, objectives, and outcomes to be achieved by the proposed project are clearly specified and measurable.

(ii) The extent to which the proposed project is part of a comprehensive effort to improve teaching and learning in American history and support rigorous academic standards for all students.

(iii) The extent to which the proposed project involves the collaboration of appropriate partners with content expertise in American history to improve teachers' knowledge and instruction.

(c) Quality of the management plan. (20 points)

In determining the quality of the management plan, the Secretary considers the following factors:

(i) The adequacy of the management plan to achieve the objectives of the proposed project on time and within budget, including clearly defined responsibilities, timelines, continuous improvement strategies and milestones for accomplishing project tasks.

(ii) The extent to which the time commitments of the project director and other key project personnel are appropriate and adequate to meet the objectives of the proposed project.

(d) Quality of the project evaluation. (15 points)

In determining the quality of the evaluation, the Secretary considers the following factors:

(i) The extent to which the methods of evaluation are thorough, feasible, and appropriate to the goals, objectives, and outcomes of the proposed project.

(ii) The extent to which the methods of evaluation include the use of objective performance measures that are clearly related to the intended outcomes of the project and will produce quantitative and qualitative data to the extent possible.

(iii) The extent to which the methods of evaluation will provide performance feedback and permit periodic assessment of progress toward achieving intended outcomes.

(e) Adequacy of resources. (10 points)

In determining the adequacy of resources for the proposed project, the Secretary considers:

(i) The extent to which the costs are reasonable and the budget sufficient in relation to the objectives, design, and scope of project activities.

(ii) The relevance and demonstrated commitment of each partner in the proposed project to the implementation and success of the project.

Intergovernmental Review of Federal Programs

This program is subject to the requirements of Executive Order 12372 (Intergovernmental Review of Federal Programs) and the regulations in 34 CFR part 79.

The objective of the Executive Order is to foster an intergovernmental partnership and to strengthen federalism by relying on State and local processes for State and local government coordination and review of proposed Federal financial assistance.

Applicants must contact the appropriate State Single Point of Contact to find out about, and to comply with, the State's process under Executive Order 12372. Applicants proposing to perform activities in more than one State should immediately contact the Single Point of Contact for each of those States and follow the procedures established in each State under the Executive order.

If you want to know the name and address of any State Single Point of Contact (SPOC) you may view the latest SPOC list on the OMB Web site at the following address: www.whitehouse.gov/omb/grants.

In States that have not established a process or chosen a program for review, State, area-wide, regional, and local entities may submit comments directly to the Department.

Any State Process Recommendation and other comments submitted by a State Single Point of Contact and any comments from State, area-wide, regional, and local entities must be mailed or hand-delivered by the date indicated in this notice to the following address: The Secretary, E.O. 12372-CFDA #84.215X, U.S. Department of Education, Room 7E200, 400 Maryland Avenue, SW., Washington, DC 20202-0125.

Proof of mailing will be determined on the same basis as applications (see 34 CFR 75.102). Recommendations or comments may be hand-delivered until 4:30 p.m. (Eastern Standard Time) on the date indicated in this notice.

Please note that the above ADDRESS is not the same ADDRESS as the one to which the applicant submits its completed application. Do not send applications to the above ADDRESS.

Instructions for Transmittal of Applications

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2002, the U.S. Department of Education is continuing to expand its pilot project of electronic submission of applications to include additional formula grant programs and additional discretionary grant competitions. The Teaching American History Grant program (CFDA #84.215X) is one of the programs included in the pilot project. If you are an applicant under the Teaching American History Grant program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424B to the Application Control Center at (202) 260-1349.

• We may request that you give us original signatures on all other forms at a later date.

You may access the electronic grant application for the Teaching American History Grant program at: http://e-grants.ed.gov

We have included additional information about the e-APPLICATION pilot project (see Parity Guidelines between Paper and Electronic Applications) in the application package.

If you want to apply for a grant and be considered for funding, you must meet the following deadline requirements:

(A) If You Send Your Application by Mail

You must mail the original and two copies of the application on or before the deadline date. To help expedite our review of your application, we would appreciate your voluntarily including an additional two copies of your application. Mail your application to: U.S. Department of Education, Application Control Center, Attention: CFDA #84.215X, 7th & D Streets, SW., ROB-3, Room 3633, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

An applicant should note that the U.S. Postal Service does not uniformly provide a dated postmark. Before relying on this method, an applicant should check with its local post office.

Special Note: Due to recent disruptions to normal mail delivery, the Department encourages you to consider using an alternative delivery method (for example, a commercial carrier, such as Federal Express or United Parcel Service; U.S. Postal Service Express Mail; or a courier service) to transmit your application for this competition to the Department. If you use an alternative delivery method, please obtain the appropriate proof of mailing under “Applications Sent by Mail,” then follow the instructions for “Applications Delivered by Hand.”

(B) Applications Delivered by Hand

You or your courier must hand deliver the original and two copies of the application by 4:30 p.m. (Washington, DC time) on or before the deadline date. To help expedite our review of your application, we would appreciate your voluntarily including an additional two copies of your application. Deliver your application to: U.S. Department of Education, Application Control Center, Attention: CFDA # 84.215X, 7th & D Streets, SW, ROB-3, Room 3633, Washington, DC 20202-4725.

The Application Control Center accepts application deliveries daily between 8:00 a.m. and 4:30 p.m. (Washington, DC time), except Saturdays, Sundays, and Federal holidays. The Center accepts application deliveries through the D Street entrance only. A person delivering an application must show identification to enter the building.

(C) If You Submit Your Application Electronically

You must submit your grant application through the Internet using the software provided on the e-Grants Web site (http://e-grants.ed.gov) by 4:30 p.m. (Washington, DC time) on the deadline date.

The regular hours of operation of the e-Grants Web site are 6:00 a.m. until 12:00 midnight (Washington, DC time) Monday-Friday and 6:00 a.m. until 7 p.m. Saturdays. The system is unavailable on the second Saturday of every month, Sundays, and Federal holidays. Please note that on Wednesdays the Web site is closed for maintenance at 7 p.m. (Washington, DC time).

Notes:

(1) The U.S. Postal Service does not uniformly provide a dated postmark. Before relying on this method, you should check with your local post office.

(2) If you send your application by mail, or if you or your courier deliver it by hand, the Application Control Center will mail a Grant Application Receipt Acknowledgment to you. If you do not receive the notification of application receipt within 15 days from the date of mailing the application, you should call the U.S. Department of Education Application Control Center at (202) 708-9493.

(3) If your application is late, we will notify you that we will not consider the application.

(4) You must indicate on the envelope and—if not provided by the Department—in Item 4 of the Application for Federal Education Assistance (ED 424 (exp. 11/30/2004)) the CFDA number—and suffix letter, if any—of the competition under which you are submitting your application.

(5) If you submit your application through the Internet via the e-Grants Web site, you will receive an automatic acknowledgment when we receive your application.

Application Instructions and Forms

The appendix to this notice contains all required forms and instructions, including instructions for preparing the application narrative, a statement regarding estimated public reporting burden, a notice to applicants regarding compliance with section 427 of the General Education Provisions Act (GEPA), various assurances and certifications, and a checklist for applicants.

To apply for an award under this competition, your application must be organized in the following order and include the following four parts. The parts and additional materials are as follows:

Part I: Application for Federal Assistance (ED 424, Exp. 11/30/2004) and Instructions

Part II: Budget Information—Non-Construction Programs (ED Form No. 524) and Instructions

An applicant for a multi-year project must provide a budget narrative that provides budget information for each budget period of the proposed project period.

Part III: Application Narrative

The application narrative is where an applicant addresses the selection criteria that are used by reviewers in evaluating the application. Applicants are strongly encouraged to limit the application narrative to no more than 20 double-spaced, standard-type pages. The following standards are preferred: (1) A “page” is 8.5″ × 11″ (one side only) with one-inch margins (top, bottom, and sides). (2) If using a proportional computer font, applicants are requested to use a 12-point font.

Part IV: Assurances and Certifications

a. Assurances—Non-Construction Programs (Standard Form 424B).

b. Certifications Regarding Lobbying; Debarment, Suspension, and Other Responsibility Matters; and Drug-Free Workplace Requirements (ED 80-0013) and instructions.

c. Certifications regarding Debarment, Suspension, Ineligibility and Voluntary Exclusion—Lower Tier Covered Transactions (ED 80-0014, 9/90) and instructions.

Note: ED Form 80-0014 is intended for the use of grantees and should not be transmitted to the Department.

d. Disclosure of Lobbying Activities (Standard Form LLL) (if applicable) and instructions.

An applicant may submit information on photostatic copies of the application, budget forms, assurances, and certifications as printed in this notice in the Federal Register. However, the application form, assurances, and certifications must each have an original signature. All applicants are required to submit ONE original signed application, including ink signatures on all forms and assurances, and TWO copies of the application, one bound and one unbound copy suitable for photocopying. Please mark each application as “original” or “copy.” To aid with the review of applications, the Department encourages applicants to submit two additional paper copies of the application. The Department will not penalize applicants who do not provide additional copies. No grant may be awarded unless a completed application form, including the signed assurances and certifications, has been received.

For Further Information Contact:

Christine Miller, Alex Stein, Harry Kessler, or Claire Geddes, Teaching American History Grant Program, U.S. Department of Education, 400 Maryland Avenue, SW, Washington, DC 20202-6200. Telephone (202) 260-8766 (Christine Miller); (202) 205-9085 (Alex Stein); (202) 708-9943 (Harry Kessler); (202) 260-8757 (Claire Geddes).

E-mail: teachingamericanhistory@ed.gov

Individuals who use a telecommunications device for the deaf (TDD) may call the Federal Information Relay Service (FIRS) at 1-888-877-8339.

Individuals with disabilities may obtain this notice in an alternative format (e.g., Braille, large print, audiotape, or computer diskette) on request to the contact persons.

Electronic Access to This Document

You may view this document, as well as all other Department of Education documents published in the Federal Register, in text or Adobe Portable Document Format (PDF) on the Internet at the following site: http://www.ed.gov/legislation/FedRegister

To use PDF you must have Adobe Acrobat Reader, which is available free at this site. If you have questions about using PDF, call the U.S. Government Printing Office (GPO) toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 2351 et seq.

Dated: March 28, 2002.
Susan B. Neuman,
Assistant Secretary for Elementary and Secondary Education.

Appendix

Instructions for the Application Narrative

The narrative is the section of the application where the selection criteria used by reviewers in evaluating the application are addressed. The narrative must encompass each function or activity for which funds are being requested. Before preparing the application narrative, an applicant should read carefully the description of the program and the selection criteria the Secretary uses to evaluate applications.

Applicants should note the preferable page limits for the application narrative stated in this notice under Page Limits.

1. Begin with a one-page Abstract summarizing the proposed Teaching American History project, including a description of project objectives and activities and partners in the application. Also include a short description of the population to be served by the project.

2. Include a Table of Contents listing the parts of the narrative in the order of the selection criteria and the page numbers where the parts of the narrative are found. Be sure to number the pages.

3. Describe fully the proposed project in light of the selection criteria in the order in which the criteria are listed in the application package. Do not simply paraphrase the criteria.

4. Provide the following in response to the attached “Notice to all Applicants:” (1) A reference to the portion of the application in which information appears as to how the applicant is addressing steps to promote equitable access and participation, or (2) a separate statement that contains that information.

5. If the application is from a group, attach the group's agreement. When applying for funds as a group, such as a consortium, individual eligible applicants must enter into an agreement signed by all members of the group. The group's agreement must detail the activities each member of the group plans to perform, and must bind each member to every statement and assurance made in the group's application. (The designated applicant must submit the group's agreement with its application.)

6. Applicants may include supporting documentation as appendices to the narrative. This material should be concise and pertinent to the competition. Note that the Secretary considers only information contained in the application in ranking applications for funding consideration. Letters of support sent separately from the formal application package are not considered in the review by the technical review panels.

7. Attach copies of all required assurances and forms.

Estimated Public Reporting Burden

According to the Paperwork Reduction Act of 1995, you are not required to respond to a collection of information unless it displays a valid OMB Control Number. The valid OMB control number for this information collection is 1890-0009, (Expiration Date: 06/30/2002). The time required to complete this information collection is estimated to average sixty-five (65) hours per response, including the time to review instructions, search existing data resources, gather the data needed, and complete and review the information collection. If you have any comments concerning the accuracy of the time estimate or suggestions for improving this form, please write to: Christine Miller, Teaching American History Grant Program, U.S. Department of Education, 400 Maryland Avenue SW, FB-6, 5C126, Washington, DC 20202-6200.

If you have comments or concerns regarding the status of your individual submission of this form, write directly to: Christine Miller, Teaching American History Grant Program, U.S. Department of Education, 400 Maryland Avenue SW, FB-6, 5C126, Washington, DC 20202-6200.

Checklist for Applicants

The following forms and other items must be included in the application in the order listed below:

__1. Application for Federal Assistance (ED 424)

__2. Budget Information—Non-Construction Programs ED (Form No. 524) and budget narrative.

__3. Application Narrative, including information that addresses section 427 of the General Education Provisions Act (see the section entitled “NOTICE TO ALL APPLICANTS”), and relevant appendices.

__4. Group agreement, if applicable.

__5. Assurances—Non-Construction Programs (SF 242B).

__6. Certifications Regarding Lobbying; Debarment, Suspension, and Other Responsibility Matters; and Drug-Free Workplace Requirements (ED 80-0013).

__7. Disclosure of Lobbying Activities (Standard Form LLL).

Parity Guidelines Between Paper and Electronic Applications

In FY 2002, the U.S. Department of Education is continuing to expand the pilot project, which began in FY 2000, which allows applicants to use an Internet-based electronic system for submitting applications. This competition is among those that have an electronic submission option available to all applicants. The system, called e-APPLICATION, formerly e-GAPS (Electronic Grant Application System), allows an applicant to submit a grant application to us electronically, using a current version of the applicant's Internet browser. To see e-APPLICATION visit the following address: http://e-grants.ed.gov.

Users of e-APPLICATION, a data driven system, will be entering data on-line while completing their applications. This will be more interactive than just e-mailing a soft copy of a grant application to us. If you participate in this voluntary pilot project by submitting an application electronically, the data you enter on-line will go into a database and ultimately will be accessible in electronic form to our reviewers.

This pilot project continues the Department's transition to an electronic grant award process. In addition to e-APPLICATION, the Department plans to expand the number of discretionary programs using the electronic peer review (e-READER) system and to increase the participation of discretionary programs offering grantees the use of the electronic annual performance reporting (e-REPORTS) system. To help ensure parity and a similar look between electronic and paper copies of grant applications, we are asking each applicant that submits a paper application to adhere to the following guidelines:

• Submit your application on 8½″ by 11″ paper.

• Leave a 1-inch margin on all sides.

• Use consistent font throughout your document. You may also use boldface type, underlining, and italics. However, please do not use colored text.

• Please use black and white, also, for illustrations, including charts, tables, graphs and pictures.

• For the narrative component, your application should consist of the number and text of each selection criterion followed by the narrative. The text of the selection criterion, if included, does not count against any page limitation.

• Place a page number at the bottom right of each page beginning with 1; and number your pages consecutively throughout your document.

BILLING CODE 4000-01-U

[FR Doc. 02-7972 Filed 4-2-02; 8:45 am]

BILLING CODE 4000-01-C